DEPARTMENT OF LABOR

Office of the Secretary

Agency Information Collection Activities; Submission for OMB Review; Comment Request; Student Data Form

ACTION: Notice.

SUMMARY: The Department of Labor (DOL) hereby announces the submission of the information collection request (ICR) sponsored by the Occupational Safety and Health Administration (OSHA) titled, “Student Data Form,” to the Office of Management and Budget (OMB) for review and approval for continued use in accordance with the Paperwork Reduction Act of 1995 (PRA), Public Law 104-13, 44 U.S.C. chapter 35.

DATES: Submit comments on or before November 29, 2010.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an e-mail to DOL_PRA_PUBLIC@dol.gov.

Submit comments about this request to the Office of Information and Regulatory Affairs, Attn: OMB Desk Officer for the Department of Labor, Occupational Safety and Health Administration (OSHA), Office of Management and Budget, Room 10235, Washington, DC 20503, Telephone: 202-395-6881/Fax: 202-395-5806 (these are not toll-free numbers), e-mail: OIRA_submission@omb.eop.gov.

FOR FURTHER INFORMATION CONTACT: Contact Michel Smyth by telephone at 202-693-4129 (this is not a toll-free number) or by e-mail at DOL_PRA_PUBLIC@dol.gov.

SUPPLEMENTARY INFORMATION: The DOL is seeking OMB reauthorization of the OSHA-sponsored Student Data Form, OSHA Form 182. The DOL, as part of its continuing effort to reduce paperwork and respondent burden, submits information collections for OMB consideration after conducting a preclearance consultation program to provide the public with an opportunity to comment on proposed and continuing information collection requirements in accordance with the PRA. See 44 U.S.C. 3506(c)(2)(A). This program ensures that information is in the desired format, reporting burden (time and costs) is minimal, collection instruments are clearly understood, and the estimate of the information collection burden is accurate.

The Occupational Safety and Health Act of 1970 (OSH Act) authorizes the OSHA to conduct education and training courses. See 29 U.S.C. 670. These courses must educate an adequate number of qualified personnel to fulfill the purposes of the OSH Act, provide them with short-term training, inform them of the importance and proper use of safety and health equipment, and train employers and workers to recognize, avoid, and prevent unsafe and unhealthful working conditions. The OSHA Training Institute provides basic, intermediate, and advanced training and education in occupational safety and health for Federal and State compliance officers, OSHA professionals and technical-support personnel, employers, workers, organizations representing workers and employers, educators who develop curricula and teach occupational safety and health courses, and representatives of professional safety and health groups.

Students attending OSHA Training Institute courses complete a one-page Student Data Form on the first day of class. The Student Data Form collects information under five major categories; course information, personal data, employer data, emergency contacts, and student groups. The OSHA uses information provided on the Student Data Form to contact a designated person in case of an emergency, to prepare certain OSH Act-required reports, tuition receipts, to evaluate training output, and to make decisions regarding program/course revisions, budget support, and tuition costs.

The Student Data Form constitutes an information collection within the meaning of the PRA. A Federal agency generally cannot conduct or sponsor a collection of information unless it is currently approved by the OMB under the PRA and displays a currently valid OMB Control Number. Furthermore, the public is generally not required to respond to a collection of information unless it displays a currently valid OMB Control Number. In addition, notwithstanding any other provisions of law, no person shall generally be subject to penalty for failing to comply with a collection of information if the collection of information does not display a currently valid OMB Control Number. See 5 CFR 1320.5(a) and 1320.6.

The DOL obtains approval for this information collection under OMB Control Number 1218-0172, and the current approval is scheduled to expire on October 31, 2010. For additional information, see the related notice published in the Federal Register on July 8, 2010 (75 FR 39279).

Interested parties are encouraged to send comments to the OMB, Office of Information and Regulatory Affairs at the address shown in the ADDRESSES section within 30 days of publication of this notice in the Federal Register. In order to ensure appropriate consideration, comments should reference OMB Control Number 1218-0172. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Type of Review: Extension of a currently approved collection.

Title of Collection: Student Data Form.

Form Number: OSHA Form 182.

OMB Control Number: 1218-0172.

Affected Public: Individuals; business or other for-profit organizations; Federal government; State, Local, or Tribal governments.

Total Estimated Number of Respondents: 2000.

Total Estimated Number of Responses: 2000.

Total Estimated Annual Burden Hours: 160.

Total Estimated Annual Costs Burden: $0.

Dated: October 14, 2010.
Michel Smyth,
Departmental Clearance Officer.

[FR Doc. 2010-27378 Filed 10-28-10; 8:45 am]

BILLING CODE 4510-26-P